DEPARTMENT OF COMMERCE

U.S. Census Bureau

Agency Information Collection Activities; Submission to the Office of Management and Budget (OMB) for Review and Approval; Comment Request; Survey of Residential Building or Zoning Permit Systems(C-411)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 9, 2020 during a 60-day comment period. This notice allows for an additional 30 days for public comments.

Agency: U.S. Census Bureau.

Title: Survey of Residential Building or Zoning Permit Systems (C-411).

OMB Control Number: 0607-0350.

Form Number(s): C-411(v), C-411(m), C-411(c).

Type of Request: Regular submission, Request for an Extension, without Change, of a Currently Approved Collection.

Number of Respondents: 820 annual average.

Average Hours per Response: 15 minutes.

Burden Hours: 205.

Needs and Uses: The U.S. Census Bureau is requesting an extension of a currently approved collection for Form C-411, “Survey of Residential Building or Zoning Permit Systems.”

The Census Bureau produces statistics used to monitor activity in the large and dynamic construction industry. These statistics help state and local governments and the federal government, as well as private industry, to analyze this important sector of the economy. The accuracy of the Census Bureau statistics regarding the amount of construction authorized depends on data supplied by building and zoning officials throughout the country. The Census Bureau uses Form C-411 to obtain information from state and local building permit officials needed for updating the universe of permit-issuing places which serves as the sampling frame for the Report of Privately-Owned Residential Building or Zoning Permits Issued (OMB number 0607-0094), also known as the Building Permits Survey (BPS), and the Survey of Housing Starts, Sales, and Completions (OMB number 0607-0110), also known as Survey of Construction (SOC). These two sample surveys provide widely used measures of construction activity, including the principal economic indicators, New Residential Construction and New Home Sales. Data from the BPS and SOC are also used by the Bureau of Economic Analysis (BEA) in the calculation of estimates of the Residential Fixed Investment portion of the Nation's Gross Domestic Product (GDP). In addition, data from the BPS are used by the Census Bureau in the calculation of annual population estimates; these estimates are widely used by government agencies to allocate funding and other resources to local governments.

The questions on Form C-411 pertain to the legal requirements for issuing building or zoning permits in the local jurisdictions. Information is obtained on such items as geographic coverage and types of construction for which permits are issued.

The appropriate form is sent to a jurisdiction when the Census Bureau has reason to believe that a new permit system has been established or an existing one has changed. This is based on information from a variety of sources including survey respondents, regional councils and the Census Bureau's Geography Division, which keeps abreast of changes in corporate status. We anticipate approximately a 50% response rate to the mailed C-411 forms, which is supplemented with existing known information from the C-404 monthly and annual collection, individual follow-ups with jurisdictions by email or phone, and publicly available information to maintain coverage for the universe of permit issuing places. We anticipate having accurate and up to date coverage for the universe for over 85% of jurisdictions as a result of these combined operations.

We use the information to verify the existence of new permit systems or changes to existing systems. Based on the information, the Census Bureau adds new permit-issuing places to the universe, deletes places no longer issuing permits, and makes changes to the universe to reflect those places that have merged.

Failure to maintain the universe of permit-issuing places would result in deficient samples and inaccurate statistics. This in turn jeopardizes the accuracy of the above-mentioned economic indicators. These indicators are closely monitored by the Board of Governors of the Federal Reserve System and other economic policy makers because of the sensitivity of the housing industry to changes in interest rates.

Affected Public: State, Local, or Tribal government.

Frequency: Every five years with annual follow-up, as needed.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0350.

Sheleen Dumas,
Department PRA Clearance Officer, Office of the Chief Information Officer, Commerce Department.

[FR Doc. 2021-01186 Filed 1-19-21; 8:45 am]

BILLING CODE 3510-07-P